DEPARTMENT OF TRANSPORTATION

Federal Aviation Administration

Notice of Intent To Rule on Request To Release Airport Property Owned by the Cities of Winfield and Arkansas City, Winfield, Kansas

AGENCY: Federal Aviation Administration, (FAA), DOT.

ACTION: Notice of Request to Release Airport Property.

SUMMARY: The FAA proposes to rule and invites public comment on the release of approximately 654 acres of airport land located approximately 15 miles from the Strother Field Airport/Industrial Park under the provisions of Section 125 of the Wendell H. Ford Aviation Investment Reform Act for the 21st Century (AIR 21).

DATES: Comments must be received on or before July 28, 2004.

ADDRESSES: Comments on this application may be mailed or delivered to the FAA at the following address: Federal Aviation Administration, Central Region, Airports Division, ACE-610C, 901 Locust, Kansas City, Missouri 64106-2325. In addition, one copy of any comments submitted to the FAA must be mailed or delivered to Mr. Jerald Hooley, Chairman, Strother Field Commission, at the following address: Strother Field Airport/Industrial Park, P.O. Box 747, Winfield, Kansas 67156.

FOR FURTHER INFORMATION CONTACT: Mrs. Nicoletta S. Oliver, Airports Compliance Specialist, Federal Aviation Administration, Central Region, Airports Division, ACE-610C, 901 Locust, Kansas City, Missouri 64106-2325. The request to release property may be reviewed in person at this same location.

SUPPLEMENTARY INFORMATION: The FAA invites public comment on the request to release property owned by the Cities of Winfield and Arkansas City, Winfield, Kansas, under the provisions of AIR21.

On April 8, 2004, the FAA determined that the request to release property owned by the Cities of Winfield and Arkansas City, Winfield, Kansas, submitted by the Strother Field Commission met the procedural requirements of the Federal Aviation Regulations, Part 155.

The FAA will approve or disapprove the request, in whole or in part, no later than July 30, 2004.

The following is a brief overview of the request.

The Strother Field Commission requests the release of approximately 654 acres of airport property on the West Auxiliary Site, which was acquired through the Surplus Property Act of 1944. This land is located nearly 15 miles from the airport and was used by the Army during World War II as an auxiliary land site, but is currently not being used for aeronautical purposes. Because of this property's distance from the actual location of the airport/industrial park, staff is not able to regularly patrol or inspect this property. The release of the property will allow for the sale of the land to generate revenue for use at the Strother Field Airport/Industrial Park. The Strother Field Commission has current oil and gas leases, which have produced income for the airport and the Commission will retain these leases.

Any person may inspect the request in person at the FAA office listed above under FOR FURTHER INFORMATION CONTACT.

In addition, any person may inspect the request, notice and other documents germane to the request in person at the Strother Field Airport/Industrial Park.

Issued in Kansas City, Missouri, on April 8, 2004.
George A. Hendon,
Manager, Airports Division Central Region.

[FR Doc. 04-14520 Filed 6-25-04; 8:45 am]

BILLING CODE 4910-13-M